SMALL BUSINESS ADMINISTRATION

13 CFR Parts 124 and 125

Tribal Consultation for 8(a) Business Development Program and Mentor-Protégé Program Issues and Best Practices

AGENCY: U.S. Small Business Administration.

ACTION: Notice of tribal consultation meeting.

SUMMARY: The U.S. Small Business Administration (SBA) announces that it is holding a tribal consultation meeting in Anchorage, Alaska requesting comments and input on a variety of topics relating to the 8(a) program and the mentor-protégé program. SBA is requesting general comments and input on how the 8(a) program is working and is inviting suggestions on potential avenues for making the program more efficient or reducing the regulatory burden on participants in the program. Additionally, SBA requests comments and input on best practices for how entity-owned firms market their capabilities to procuring agencies. SBA is also requesting comments and input on how to ensure the mentor-protégé program is operating as intended.

DATES: The Tribal Consultation meeting date is Friday, June 13, 2025, 9:30 a.m. to 12 p.m. (AKDT), Anchorage, Alaska. The Tribal Consultation meeting pre-registration deadline date is June 6, 2025.

ADDRESSES:

1. The Tribal Consultation meeting will be held at Z.J. Loussac Public Library, 3600 Denali Street, Anchorage, AK 99503.

2. Send pre-registration requests to attend and/or testify to Diane Cullo, Assistant Administrator, Office of Native American Affairs, U.S. Small Business Administration, 409 3rd Street SW, Washington, DC 20416; Diane.Cullo@sba.gov; or Facsimile to (202) 481-2177.

3. You may submit written comments to SBA by sending them to Diane Cullo, Assistant Administrator, Office of Native American Affairs, U.S. Small Business Administration, 409 3rd Street SW, Washington, DC 20416; or Diane.Cullo@sba.gov; or Facsimile to (202) 481-2177. If you wish to submit confidential business information (CBI), please submit the information to Diane Cullo, Assistant Administrator, Office of Native American Affairs, U.S. Small Business Administration, 409 3rd Street SW, Washington, DC 20416 and highlight the information that you consider to be CBI and explain why you believe this information should be held confidential. SBA will review the information and make a final determination of whether the information will be published or not.

FOR FURTHER INFORMATION CONTACT: Diane Cullo, Assistant Administrator, Office of Native American Affairs, at Diane.cullo@sba.gov or (202) 619-0518 or by facsimile to (202) 481-2177.

SUPPLEMENTARY INFORMATION:

I. Background

SBA is seeking input from the Native American community on the general management and operation of the 8(a) and mentor protégé programs (particularly with respect to 8(a) firms owned by tribes, Alaska Native Corporations (ANCs), and Native Hawaiian Organizations (NHOs)) as part of the Administration's desire to make these programs more effective and improve the delivery of them to the small business community. Accordingly, SBA is interested in receiving comments from representatives of tribes, ANCs and NHOs offering their perspective on how the 8(a) program is working generally and providing suggestions for how the program could be made more efficient to better suit the needs of small businesses owned by these entities. Additionally, SBA is asking for input on best practices on how entity-owned firms market their capabilities to procuring agencies. SBA has found that certain practices may be negatively impacting entity-owned firms' ability to receive awards. For example, contracting officers may consider entity-owned firms to be affiliated with each other when several appear on the same web page or where multiple firms owned by the same entity have the exact same capabilities and contact points. SBA is seeking comments and input from firms who have encountered these or similar issues and how they have been able to successfully market their sophisticated capabilities while still making clear to procuring agencies that they are independent small businesses. Lastly, SBA wishes to discuss and is inviting comments on the mentor-protégé program. In particular, SBA is interested in receiving comments and input on whether protégé firms can truly direct and manage mentor firms when performing a joint venture mentor-protégé joint venture project. It has come to SBA's attention that some mentors that have pre-existing relationships with certain procuring agencies do not include protégé firms in critical meetings with those agencies, despite the protege being the project manager of the joint venture. SBA believes that this is contrary to the intent of the mentor-protégé program. Protégé firms should be the ones directing the actions of a mentor-protégé joint venture, not the mentor. SBA is concerned that this may also lead to instances of non-compliance with the limitations on subcontracting requirements. SBA seeks comments and guidance on this issue.

Tribal Consultation Meeting

The purpose of this tribal consultation meeting is to conform to the requirements of Executive Order 13175, Tribal Consultations; to provide interested parties with an opportunity to discuss their views on the issues; and for SBA to obtain the views of SBA's stakeholders on ways to maximize efficiency and reduce the burden on small businesses in the 8(a) BD program and mentor-protégé program regulations. SBA considers tribal consultation meetings a valuable component of its deliberations and believes that this tribal consultation meeting will allow for constructive dialogue with the Tribal community, Tribal Leaders, Tribal Elders, elected members of Alaska Native Villages or their appointed representatives, and principals of tribally-owned and ANC-owned firms participating in the 8(a) BD and mentor-protégé programs.

The format of this tribal consultation meeting will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. The purpose of the tribal consultation is to assist SBA with gathering information to guide SBA's review process and to potentially develop new proposals. SBA requests that the comments focus on issues as they pertain to the 8(a) BD and mentor-protégé regulations, input related to what changes could be made to make these programs more attractive to procuring agencies and small businesses, or the unique concerns of the Tribal and Native communities. SBA requests that commenters do not raise issues pertaining to other SBA small business programs. Presenters are encouraged to provide a written copy of their testimony. SBA will accept written material that the presenter wishes to provide that further supplements his or her testimony. Electronic or digitized copies are encouraged.

The tribal consultation meeting will be held for one day. The meeting will begin at 9:30 a.m. and end at 12 p.m. (AKDT). SBA will adjourn early if all those scheduled have delivered their testimony.

II. Registration

SBA respectfully requests that any elected or appointed representative of the tribal communities or principal of a tribally-owned, ANC-owned or NHO-owned 8(a) firm that is interested in attending please pre-register in advance and indicate whether you would like to testify at the hearing. Registration requests should be received by SBA by June 6, 2025. Please contact Diane Cullo, Assistant Administrator, Office of Native American Affairs in writing at Diane.Cullo@sba.gov or by facsimile to (202) 481-2950. If you are interested in testifying please include the following information relating to the person testifying: Name, Organization affiliation, Address, Telephone number, Email address and Fax number. SBA will attempt to accommodate all interested parties that wish to present testimony. Based on the number of registrants it may be necessary to impose time limits to ensure that everyone who wishes to testify has the opportunity to do so. SBA will confirm in writing the registration of presenters and attendees.

Authority: 15 U.S.C. 634 and E.O. 13175, 65 FR 67249.

Dated: May 7, 2025.
Diane Cullo,
Assistant Administrator, Office of Native American Affairs.

[FR Doc. 2025-08294 Filed 5-9-25; 8:45 am]

BILLING CODE 8026-09-P